Title 3—

The President

Memorandum of January 5, 2000

Delegation of Authority Under Section 1401(b) of the

National Defense Authorization Act for Fiscal Year 2000 (Public Law 106-65)

Memorandum for the Secretary of State

By the authority vested in me by the Constitution and laws of the United States, including section 301 of title 3, United States Code, I hereby delegate to the Secretary of State the duties and responsibilities vested in the President by section 1401(b) of the National Defense Authorization Act for Fiscal Year 2000 (“the Act”) (Public Law 106-65).

The Department of State shall obtain concurrence on the report from the following agencies: the Department of Defense, the Department of Commerce, and the Director of Central Intelligence on behalf of the Intelligence Community prior to submission to the Congress.

Any reference in this memorandum to the provisions of any Act shall be deemed to be a reference to such Act or its provisions as may be amended from time to time.

You are authorized and directed to publish this memorandum in the Federal Register.

wj

THE WHITE HOUSE,

Washington, January 5, 2000.

[FR Doc. 00-1501

Filed 1-19-00; 8:45 am]

Billing code 4710-10-M